DEPARTMENT OF COMMERCE

International Trade Administration

[A-412-805; A-428-807; A-570-805]

Continuation of Antidumping Duty Orders: Sulfur Chemicals (Sodium Thiosulfate) From the United Kingdom, Germany, and the People's Republic of China

AGENCY: Import Administration, International Trade Administration, Department of Commerce.

ACTION: Notice of Continuation of Antidumping Duty Orders: Sodium Thiosulfate from the United Kingdom, Germany, and the People's Republic of China.

SUMMARY: On December 30, 1999, the Department of Commerce (“the Department”), pursuant to sections 751(c) and 752 of the Tariff Act of 1930, as amended (“the Act”), determined that revocation of the antidumping duty orders on sodium thiosulfate from the United Kingdom, Germany, and the People's Republic of China (“PRC”) is likely to lead to continuation or recurrence of dumping (64 FR 73515, December 30, 1999). On February 24, 2000, the International Trade Commission (“the Commission”), pursuant to section 751(c) of the Act, determined that revocation of the antidumping duty orders on sodium thiosulfate from the United Kingdom, Germany, and the PRC would be likely to lead to continuation or recurrence of material injury to an industry in the United States within a reasonably foreseeable time (65 FR 9298, February 24, 2000). Therefore, pursuant to 19 CFR 351.218(f)(4), the Department is publishing notice of the continuation of the antidumping duty orders on sodium thiosulfate from the United Kingdom, Germany, and the PRC.

EFFECTIVE DATE: March 7, 2000.

FOR FURTHER INFORMATION CONTACT: Kathryn B. McCormick or Melissa G. Skinner, Office of Policy for Import Administration, International Trade Administration, U.S. Department of Commerce, 14th Street and Constitution Ave., NW, Washington, D.C. 20230; telephone: (202) 482-1930 or (202) 482-1560, respectively.

SUPPLEMENTARY INFORMATION

Background

On July 1, 1999, the Department initiated, and the Commission instituted, sunset reviews (64 FR 35588 and 64 FR 35687, respectively) of the antidumping duty orders on sodium thiosulfate from the United Kingdom, Germany, and the PRC, pursuant to section 751(c) of the Act. As a result of its reviews, the Department found that revocation of the antidumping duty orders would likely lead to continuation or recurrence of dumping and notified the Commission of the magnitude of the margins likely to prevail were the orders to be revoked (see Final Results of Expedited Sunset Reviews: Sulfur Chemicals (Sodium Thiosulfate) from the United Kingdom, Germany, and the People's Republic of China, 64 FR 73515 (December 30, 1999)).

On February 24, 2000, the Commission determined, pursuant to section 751(c) of the Act, that revocation of the antidumping duty orders on sodium thiosulfate from the United Kingdom, Germany, and the PRC would be likely to lead to continuation or recurrence of material injury to an industry in the United States within a reasonably foreseeable time (see Sodium Thiosulfate from the United Kingdom, Germany, and the People's Republic of China, 65 FR 9298 (February 24, 2000) and USITC Publication 3279 (February 2000), Investigation Nos. 731-TA-465, 466, 468 (Review).

Scope

The merchandise covered by the antidumping duty orders includes all grades of sodium thiosulfate, in dry or liquid form, used primarily to dechlorinate industrial waste water, from the United Kingdom, Germany, and the PRC. The chemical composition of sodium thiosulfate is Na2S203. Currently, subject merchandise is classifiable under item number 2832.30.1000 of the Harmonized Tariff Schedule of the United States (“HTSUS”). The above HTSUS subheading is provided for convenience and customs purposes. The written description remains dispositive.

Determination

As a result of the determinations by the Department and the Commission that revocation of the antidumping duty orders would be likely to lead to continuation or recurrence of dumping and material injury to an industry in the United States, pursuant to section 751(d)(2) of the Act, the Department hereby orders the continuation of the antidumping duty orders on sodium thiosulfate from the United Kingdom, Germany, and the PRC. The Department will instruct the U.S. Customs Service to continue to collect antidumping duty deposits at the rates in effect at the time of entry for all imports of subject merchandise. The effective date of continuation of this order will be the date of publication in the Federal Register of this Notice of Continuation. Pursuant to section 751(c)(2) and 751 (c)(6) of the Act, the Department intends to initiate the next five-year review of these orders not later than February 2005.

Dated: March 1, 2000.
Joseph A. Spetrini,
Acting Assistant Secretary for Import Administration.

[FR Doc. 00-5509 Filed 3-6-00; 8:45 am]

BILLING CODE 3510-DS-P